DEPARTMENT OF TRANSPORTATION

Federal Aviation Administration

14 CFR Part 71

[Airspace Docket No. FAA-02-ANM-07]

Establishment of Class E5 Airspace at Afton Municipal Airport, Afton, WY

AGENCY: Federal Aviation Administration (FAA), DOT.

ACTION: Final rule.

SUMMARY: This action will establish Class E5 airspace at Afton, WY. Recently developed Area Navigation (RNAV)/Global Positioning System (GPS) Standard Terminal Arrival Routes (STARs) and Departure Procedures (SIDs) have made this proposal necessary. The establishment of Class E5 airspace is for containment of aircraft executing Instrument Flight Rule (IFR) operations at Afton Municipal Airport within controlled airspace. The intended effect of this action is to provide an increased level of safety for aircraft executing IFR operations between the terminal and en route phase of flight at Afton Municipal Airport, Afton, WY.

EFFECTIVE DATE: 0901 Coordinated Universal Time (UTC), October 30, 2003.

FOR FURTHER INFORMATION CONTACT: Ed Haeseker, ANM-520.7, Federal Aviation Administration, Docket No. 02-ANM-07.

SUPPLEMENTARY INFORMATION:

History

Effective November 29, 2002, the FAA proposed to amend Title 14 Code of Federal Regulations, part 71 (14 CFR part 71) by establishing Class E5 airspace at Afton Municipal Airport, Afton, WY. This was necessary to provide an increased level of safety for aircraft executing IFR operations between the terminal and en route phase of flight at Afton Municipal Airport, Afton, WY. Interested parties were invited to participate in this rule making proceeding by submitting written comments on the proposal. No comments were received.

The Rule

This amendment to 14 CFR part 71, establishes Class E5 airspace at Afton, WY. Class E airspace is necessary to provide adequate controlled airspace for IFR operations at Afton Municipal Airport. The FAA establishes Class E airspace where necessary to contain IFR aircraft transitioning between the terminal and en route environments. By this action, the FAA intends to provide for the safe and efficient use of the navigable airspace, and to promote safe flight operations under IFR conditions at the Afton Municipal Airport, Afton, WY.

The new Class E5 airspace will be depicted on aeronautical charts for pilot reference. The coordinates for this airspace docket are based on North American Datum 83. Class E5 airspace areas extending upward from 700 feet above the surface of the earth, are published in Paragraph 6005, of FAA Order 7400.9K dated August 30, 2002, and effective September 16, 2002, which is incorporated by reference in 14 CFR 71.1. The Class E5 airspace designation listed in this document will be published subsequently in the Order. The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Aviation, Incorporated by reference, navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS [AMENDED]

The authority citation for 14 CFR part 71 continues to read as follows:

Authority: 49 U.S.C. 106(g), 40103, 40113, 40120; E.O. 10854, 24 FR 9565, 3 CFR, 1959-1963 Comp., p. 389; 14 CFR 11.69.

§ 71.1 [Amended]

The incorporation by reference in 14 CFR 71.1 of the Federal Aviation Administration Order 7400.9K, Airspace Designations and Reporting Points, dated August 30, 2002, and effective September 16, 2002, is amended as follows:

Paragraph 6005 Class E5 airspace areas extending upward from 700 feet or more above the surface of the earth.

* * * * *

ANM UT E5 Afton, WY [New]

Afton Municipal Airport, WY

(Lat. 42°42′41″ N., long. 110°56′32″ W.)

That airspace extending upward from 700 feet above the surface of the earth within a 6.5 mile radius of the Afton Municipal Airport, and within 2 miles either side of the 341° (355° True) bearing from the airport extending from the 6.5 mile radius to 7.5 miles north of the airport, and within 2 miles either side of the 171° (185° True) bearing from the airport extending from the 6.5 mile radius to 19.3 miles south of the airport.

Issued in Seattle, Washington on July 17, 2003.
ViAnne Fowler,
Acting Assistant Manager, Air Traffic Division, Northwest Mountain Region.

[FR Doc. 03-19406 Filed 7-30-03; 8:45 am]

BILLING CODE 4910-13-M